DEPARTMENT OF TRANSPORTATION

Federal Highway Administration

Environmental Impact Statement; Multnomah County, Oregon

AGENCY: Federal Highway Administration (FHWA), DOT.

ACTION: Notice of Intent.

SUMMARY: The FHWA is issuing this notice to advise the public that an environmental impact statement will be prepared for a proposed bridge retrofit or replacement project in Multnomah County, Oregon.

FOR FURTHER INFORMATION CONTACT: Emily Cline, Environmental Program Manager, Federal Highway Administration, Oregon Division, 530 Center Street NE, Salem, Oregon 97301, Telephone: (503) 316-2547, Email: emily.cline@dot.gov, or Megan Neill, Project Manager, Multnomah County Transportation Division, 1403 SE Water Ave., Portland, Oregon 97214, Telephone: (503) 988-0437, Email: megan.neill@multco.us.

SUPPLEMENTARY INFORMATION: The FHWA, together with Multnomah County and the Oregon Department of Transportation (DOT), will prepare an environmental impact statement (EIS) on a proposal to create a seismically resilient Burnside Street crossing of the Willamette River in downtown Portland, Oregon. The purpose of this project is to create a seismically resilient Burnside Street lifeline crossing of the Willamette River that will remain fully operational and accessible for vehicles and other modes of transportation immediately following a major earthquake. The project is intended to address the need to support the region's ability to provide rapid and reliable emergency response, rescue and evacuation after a major earthquake; the need for long-term, multi-modal travel access across the river; and to enable post-earthquake economic recovery.

The EIS will be prepared in accordance with the National Environmental Policy Act (NEPA) of 1969, as amended (42 U.S.C. 4321 et seq.), 23 U.S.C. 139, Council on Environmental Quality (CEQ) regulations implementing NEPA (40 CFR 1500-1508), FHWA regulations implementing NEPA (23 CFR 771.101-771.139), and applicable Executive Orders and DOT NEPA policies. The EIS will also document compliance with other applicable environmental review laws, regulations, Executive Orders, policies, and guidance. For example, an evaluation under Section 4(f) of the DOT Act of 1966 may also be required due to the potential for impacts to public recreational areas and resources on or eligible for the National Register of Historic Places. The FHWA intends to issue a combined Final EIS/Record of Decision pursuant to 23 CFR 771.124, unless FHWA determines the regulatory criteria or practicability considerations preclude issuance of a combined document.

Analyses developed and decisions reached during the transportation planning stage have helped narrow the range of alternatives and focus the NEPA evaluation for the project. These analyses and decisions, captured in the 2015 Willamette River Bridges Capital Improvement Program and the 2018 Earthquake Ready Burnside Bridge Feasibility Study, include the purpose and need, and the identification and screening of alternatives.

Multnomah County and the Oregon DOT submitted this planning work to extensive public involvement. This “informal” scoping included multiple public and agency meetings, held between August 2018 and October 2019, to invite comment on the statement of purpose and need, the range of alternatives, issues to be studied in the EIS, screening criteria, and evaluation criteria for selecting a preferred alternative. Multnomah County and the Oregon DOT held an online open house between September 3 and October 4, 2019. With the Feasibility Study and the informal scoping process, Multnomah County and the Oregon DOT evaluated over 100 potential alternatives and options, ultimately deciding to carry forward three build alternatives plus a No-build alternative for further analysis in an EIS.

In accordance with 23 U.S.C. 168 and 23 U.S.C. 139(f)(4), FHWA intends to adopt the planning analyses, purpose and need, and decisions on the alternatives, and rely on them for the NEPA process.

This notice begins the formal scoping period. The FHWA will use this opportunity to determine the scope and the significant issues to be analyzed in depth in the EIS, and identify and eliminate from detailed study the issues which are not significant or which have been covered by prior environmental review.

Letters describing the proposed action and soliciting comments have been sent to appropriate Federal, State, and local agencies; Tribes; and private organizations and citizens who have previously expressed or are known to have interest in this proposal. Agencies that were identified as potential Cooperating and Participating agencies are being invited to review and comment on the Agency Coordination Plan. In addition, with this notice, the lead agencies (FHWA, Multnomah County, and the Oregon DOT) invite comments and suggestions from all interested parties to ensure that the full range of issues related to this proposed action are considered and that all significant issues are identified.

Comments or questions concerning this proposed action and the EIS should be directed to FHWA at the address provided above. The lead agencies have developed a project website at www.burnsidebridge.org that includes project schedules, the Public Involvement Plan, and information about past and upcoming project meetings.

Authority: 23 U.S.C. 315; 49 CFR 1.48.

Phillip Ditzler,
Oregon Division Administrator, Portland, Oregon.

[FR Doc. 2020-07827 Filed 4-13-20; 8:45 am]

BILLING CODE 4910-22-P